DEPARTMENT OF COMMERCE

National Oceanic and Atmospheric Administration

50 CFR Part 635

RIN 0648-XS22

Atlantic Highly Migratory Species; Atlantic Bluefin Tuna Fisheries

AGENCY: National Marine Fisheries Service (NMFS), National Oceanic and Atmospheric Administration (NOAA), Commerce.

ACTION: Inseason action; notification of applicable Longline category incidental retention limits.

SUMMARY: NMFS has determined that the 25-mt quota available for the Atlantic bluefin tuna (BFT) Longline category Northeast Distant gear restricted area (NED) fishery has been attained. NMFS announces that the Longline category incidental BFT retention limits will apply in the NED for the remainder of the fishing year. This action applies to Atlantic Tunas Longline category permitted vessels that fish in the NED.

DATES: Effective October 20, 2009, through December 31, 2009.

FOR FURTHER INFORMATION CONTACT: Sarah McLaughlin or Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories, per the allocations established in the Consolidated Highly Migratory Species Fishery Management Plan (Consolidated HMS FMP). The latest (2008) ICCAT recommendation for western Atlantic BFT included a U.S. quota of 1,034.9 mt for 2009, including a 25 mt set-aside for bycatch of BFT related to longline fisheries in the vicinity of the ICCAT management area boundary. For management and monitoring purposes, NMFS implements this set-aside for BFT landings made in the Northeast Distant gear restricted area (NED) by Atlantic Longline category permitted vessels. The NED is the Atlantic Ocean area bounded by straight lines connecting the following coordinates in the order stated: 35°00′ N. lat., 60°00′ W. long.; 55°00′ N. lat., 60°00′ W. long.; 55°00′ N. lat., 20°00′ W. long.; 35°00′ N. lat., 20°00′ W. long.; 35°00′ N. lat., 60°00′ W. long.

Application of Longline Category Incidental BFT Retention Limits in NED

The 2009 adjusted BFT quota specifications issued pursuant to § 635.27 set a Longline category quota of 74.3 mt to be harvested incidentally from the regulatory area during the 2009 fishing year. Including the 25 mt for the NED, the total allowable quota for both categories for 2009 is 99.3 mt (74 FR 26110, June 1, 2009).

Under the BFT retention limit regulations at § 635.23(f)(3), once the 25-mt NED quota has been attained, the target catch requirements specified in § 635.23(f)(1) apply. Based on reported Longline category BFT landings, NMFS has determined that the 25-mt NED quota has been reached. As of October 6, 2009, Longline landings of BFT in the NED total 37.6 mt. Therefore, the following retention limits will apply in the NED for vessels permitted in the Atlantic Tunas Longline category, effective October 20, 2009, through December 31, 2009: One large medium or giant BFT per vessel per trip may be landed, provided that at least 2,000 lb (907 kg) of species other than BFT are legally caught, retained, and offloaded from the same trip and are recorded on the dealer weighout slip as sold. Two large medium or giant BFT per vessel per trip may be landed, provided that at least 6,000 lb (2,727 kg) of species other than BFT are legally caught, retained, and offloaded from the same trip and are recorded on the dealer weighout slip as sold. Three large medium or giant BFT per vessel per trip may be landed, provided that at least 30,000 lb (13,620 kg) of species other than BFT are legally caught, retained, and offloaded from the same trip and are recorded on the dealer weighout slip as sold. Dealers are reminded of the requirement to report all BFT received within 24 hours of landing.

The intent of this action and its timing is to prevent overharvest of the incidental quota established for the Longline category while providing sufficient time for vessels currently fishing to return to port and offload any BFT that may have been legally retained on board before this action takes effect.

NMFS will continue to monitor Longline category landings against the available Longline category quota for the 2009 fishing year and may take further action, if necessary. Any subsequent adjustments to the Longline category fishery for 2009 would be published in the Federal Register. In addition, fishermen may call the Atlantic Tunas Information Line at (888) 872-8862 or (978) 281-9260, or access the internet at www.hmspermits.gov, for fishery updates.

Classification

The Assistant Administrator for Fisheries, NOAA (AA), finds good cause, pursuant to 5 U.S.C. 553 (b)(B) to waive prior notice and public comment for this action, as notice and comment would be impracticable and contrary to the public interest. This notice informs fishery participants of the applicable retention limits in the NED now that the 25-mt set aside for that area has been attained. This action is intended to prevent overharvest of the incidental quota established for the Longline category while providing sufficient time for vessels currently fishing to return to port and offload any BFT that may have been legally retained on board before this action takes effect. The fishery is currently underway and any delay in fishery participant notification could cause the fishery to exceed the quota and would be inconsistent with domestic and international requirements and objectives. NMFS provides notification of the applicable retention limits by publishing the notice in the Federal Register, transmitting an electronic notice to Atlantic HMS News subscribers, including known fishery representatives and posting the notice on www.hmspermits.gov. For these reasons, the AA also finds good cause to waive the 30-day delay in effective date pursuant to 5 U.S.C. 553 (d)(1) and (3).

This action is being taken under 50 CFR 635.23(f)(3) and is exempt from review under Executive Order 12866.

Authority: 16 U.S.C. 971 et seq. and 1801 et seq.

Dated: October 15, 2009.
Alan D. Risenhoover,
Director, Office of Sustainable Fisheries, National Marine Fisheries Service.

[FR Doc. E9-25188 Filed 10-15-09; 8:45 am]

BILLING CODE 3510-22-S